DEPARTMENT OF THE INTERIOR

National Park Service

National Register of Historic Places; Notification of Pending Nominations and Related Actions

Nominations for the following properties being considered for listing or related actions in the National Register were received by the National Park Service before June 28, 2008. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by July 29, 2008.

J. Paul Loether,
Chief, National Register of Historic Places/National, Historic Landmarks Program.

ARIZONA

Pima County

Feldman's Historic District, Generally N. of E. Speedway Blvd.; W. of N. Park Ave.; S. of E. Lee St.; E. of N. 7th St., Tucson, 08000752.

LOUISIANA

Orleans Parish

Upper Central Business Distict (Boundary Increase), Roughly bounded by O'Keefe, Poydras, Convention Center Blvd., St. Rt. 90 and Howard Ave., New Orleans, 08000755.

MISSISSIPPI

Forrest County

Beverly Drive-In Theatre, 5320 U.S. Hwy 49 S., Hattiesburg, 08000761.

MISSOURI

Jackson County

Bon Air Apartments Building, (Working-Class and Middle-Income Apartment Buildings in Kansas City, Missouri MPS) 4127-4133 Locust St., Kansas City, 08000754.

MONTANA

Gallatin County

Stateler Memorial Methodist Church, (Willow Creek Area MPS) 303 Main St., Willow Creek, 08000757.

SOUTH CAROLINA

Horry County

Conway Post Office, (Conway MRA) 428 Main St., Conway, 08000758.

Kingston Presbyterian Church and Cemetery, (Conway MRA) 800 3rd Ave., Conway, 08000759.

Spartanburg County Montgomery Building, 187 N. Church St., Spartanburg, 08000760.

TEXAS

Jefferson County

Marconi Tower at Port Arthur College, 1500 Procter, Port Arthur, 08000756.

VERMONT

Chittenden County

LaFerriere House, (Burlington, Vermont MPS AD) 171-173 Intervale Ave., Burlington, 08000762.

WISCONSIN

Wood County

Upham House Historic District, Generally bounded by W. 3rd St., S. Walnut Ave., W. 4th St., and S. Chestnut Ave., Marshfield, 08000753.

[FR Doc. E8-15869 Filed 7-11-08; 8:45 am]

BILLING CODE 4310-70-P